DEPARTMENT OF COMMERCE

National Oceanic and Atmospheric Administration

[RTID 0648-XC292]

Gulf of Mexico Fishery Management Council; Public Meeting

AGENCY: National Marine Fisheries Service (NMFS), National Oceanic and Atmospheric Administration (NOAA), Commerce.

ACTION: Notice of a public meeting.

SUMMARY: The Gulf of Mexico Fishery Management Council (Council) will hold a half-day meeting of its Joint Coral, Shrimp and Spiny Lobster Advisory Panels (AP) via webinar.

DATES: The meeting will take place Monday, September 12 from 1 p.m.-4 p.m., EDT.

ADDRESSES: The meeting will be held via webinar. Registration information will be available on the Council's website by visiting www.gulfcouncil.org and clicking on the Meetings Tab and selecting Advisory Panel meetings, then Joint Coral, Shrimp and Spiny Lobster AP meeting.

Council address: Gulf of Mexico Fishery Management Council, 4107 W Spruce Street, Suite 200, Tampa, FL 33607; telephone: (813) 348-1630.

FOR FURTHER INFORMATION CONTACT: Dr. Natasha Mendez-Ferrer, Fishery Biologist, natasha.mendez@gulfcouncil.org and Dr. Matt Freeman, Economist, matt.freeman@gulfcouncil.org, Gulf of Mexico Fishery Management Council; telephone: (813) 348-1630.

SUPPLEMENTARY INFORMATION:

Monday, September 12, 2022; 1 p.m.-4 p.m., EDT

The meeting will begin with Introductions of Members, Adoption of Agenda, and review of Scope of Work.

The APs will receive a presentation on the Florida Keys National Marine Sanctuary (FKNMS) Proposed Rule and will provide recommendations to the Council.

The Joint Advisory Panels will receive Public Comment and discuss any Other Business items if time allows.

—Meeting Adjourns

The meeting will be via webinar only. You may register for the webinar by visiting www.gulfcouncil.org and clicking on the Advisory Panel meeting on the calendar. The Agenda is subject to change, and the latest version along with other meeting materials will be posted on www.gulfcouncil.org as they become available.

Although other non-emergency issues not on the agenda may come before the Advisory Panel for discussion, in accordance with the Magnuson-Stevens Fishery Conservation and Management Act, those issues may not be the subject of formal action during this meeting. Actions of the Advisory Panel will be restricted to those issues specifically identified in the agenda and any issues arising after publication of this notice that require emergency action under Section 305(c) of the Magnuson-Stevens Fishery Conservation and Management Act, provided the public has been notified of the Council's intent to take-action to address the emergency.

Authority: 16 U.S.C. 1801 et seq.

Dated: August 22, 2022.
Rey Israel Marquez,
Acting Deputy Director, Office of Sustainable Fisheries, National Marine Fisheries Service.

[FR Doc. 2022-18350 Filed 8-24-22; 8:45 am]

BILLING CODE 3510-22-P